Proclamation 8817 of May 11, 2012

Mother’s Day, 2012

By the President of the United States of America

A Proclamation

Mothers are cornerstones of our families and our communities. On Mother’s Day, we honor the remarkable women who strive and sacrifice every day to ensure their children have every opportunity to pursue their dreams.

Our Nation first came together to celebrate Mother’s Day on May 11, 1913, with the introduction of a House Resolution requesting President Woodrow Wilson, Members of Congress, and officials across the Federal Government wear white carnations in honor of America’s mothers. Today, we continue to mark Mother’s Day by paying tribute to the women who shape our characters and set our families up for success. Through their example, our children learn the principles of hard work, compassion, service, and personal responsibility. Through their encouragement and unconditional support, they instill the confidence and values so vital to our children’s success.

Mothers raise children under an array of circumstances, and many work long hours inside and outside the home balancing myriad demands. Mothers are leaders and trailblazers in every part of our society—from classrooms to boardrooms, at home and overseas, on the beat and on the bench. We celebrate the efforts of all our Nation’s mothers, and we recognize that when more households are relying on women as primary or co-breadwinners, the success of women in our economy is essential to the success of our families, our communities, and our country. That is why I created the White House Council on Women and Girls as one of my first acts in office—to ensure we integrate the needs of women and girls into every decision we make. I was proud to sign the Lilly Ledbetter Fair Pay Act, which continues to help women secure equal pay for equal work, and my Administration continues to promote workplace flexibility so no mother has to choose between her job and her child. And because of the Affordable Care Act, women finally have more power to make choices about their health care, and they have expanded access to a wide variety of preventive services such as mammograms at no additional cost.

Today, let us pay respect to mothers across America by embracing the women who continue to guide and inspire us, and by holding fast to the memories of those who live on in our hearts.

The Congress, by a joint resolution approved May 8, 1914 (38 Stat. 770), has designated the second Sunday in May each year as “Mother’s Day” and requested the President to call for its appropriate observance.

NOW, THEREFORE, I, BARACK OBAMA, President of the United States of America, do hereby proclaim May 13, 2012, as Mother’s Day. I urge all Americans to express love and gratitude to mothers everywhere, and I call upon all citizens to observe this day with appropriate programs, ceremonies, and activities.

IN WITNESS WHEREOF, I have hereunto set my hand this eleventh day of May, in the year of our Lord two thousand twelve, and of the Independence of the United States of America the two hundred and thirty-sixth.

[FR Doc. 2012-11992

Filed 5-15-12; 8:45 am]

Billing code 3295-F2-P